DEPARTMENT OF AGRICULTURE

Forest Service

Northwest Sacramento Provincial Advisory Committee (SAC PAC)

AGENCY: Forest Service, USDA.

ACTION: Notice of meeting.

SUMMARY: The Northwest Sacramento Provincial Advisory Committee (PAC) will meet on Friday, October 18, 2002, at Redding, California. This meeting will be a field trip to Iron Canyon to discuss issues relating to implementing the Northwest Forest Plan.

DATES: Friday, October 18, 2002.

LOCATION: The field trip will begin at the Shasta-Trinity National Forest Headquarters building at 2400 Washington Ave. Redding, CA.

FOR FURTHER INFORMATION CONTACT: Jackie Riley, Committee Coordinator, USDA, Shasta-Trinity National Forest, 2400 Washington Ave., Redding, CA, 96001 (530) 242-2203; e-mail: jriley01@fs.fed.us.

SUPPLEMENTARY INFORMATION: All PAC meetings and field trips are open to the public. Interested citizens are encouraged to attend. Opportunity will be provided for public input and individuals attending the meetings have the opportunity to address the Committee.

Dated: September 13, 2002.
J. Sharon Heywood,
Forest Supervisor.

[FR Doc. 02-23924 Filed 9-19-02; 8:45 am]

BILLING CODE 3410-FK-M